DEPARTMENT OF LABOR

Employment and Training Administration

Workforce Information Advisory Council

AGENCY: Employment and Training Administration, Labor.

ACTION: Notice of a virtual WIAC meeting November 6, 2024.

SUMMARY: Notice is hereby given that the Workforce Information Advisory Council (WIAC or Advisory Council) will meet virtually November 6, 2024. Information for public attendance will be posted at www.dol.gov/agencies/eta/wioa/wiac/meetings several days prior to the meeting date. The meeting will be open to the public.

DATES: The meeting will take place November 6, 2024. The meeting will begin at 3 p.m. EST and conclude at approximately 5 p.m. EST. Public statements and requests for special accommodations or to address the Advisory Council must be received by 5 p.m. EST Monday, November 4, 2024.

ADDRESSES: The meeting will be held virtually. Registration and information for the public to attend this virtual meeting will be posted on the WIAC website, www.dol.gov/agencies/eta/wioa/wiac/meetings. If problems arise accessing the meeting, please contact Donald Haughton, Unit Chief in the Division of National Programs, Tools, and Technical Assistance, Employment and Training Administration, U.S. Department of Labor, at 202-203-9209.

FOR FURTHER INFORMATION CONTACT: Steven Rietzke, Chief, Division of National Programs, Tools, and Technical Assistance, Employment and Training Administration, U.S. Department of Labor, Room C-4510, 200 Constitution Ave. NW, Washington, DC 20210; Telephone: 202-693-3912; Email: WIAC@dol.gov. Mr. Rietzke is the WIAC Designated Federal Officer.

SUPPLEMENTARY INFORMATION:

Background: This meeting is being held pursuant to section 308 of the Workforce Innovation and Opportunity Act of 2014 (WIOA) (Pub. L. 113-128), which amends section 15 of the Wagner-Peyser Act of 1933 (29 U.S.C. 491-2). The WIAC is an important component of WIOA. The WIAC is a Federal advisory committee of workforce and labor market information experts representing a broad range of national, state, and local data and information users and producers. The WIAC was established in accordance with provisions of the Federal Advisory Committee Act (FACA), as amended (5 U.S.C. app.) and will act in accordance with the applicable provisions of FACA and its implementing regulation at 41 CFR 102-3. The purpose of the WIAC is to provide recommendations to the Secretary of Labor (Secretary), working jointly through the Assistant Secretary for Employment and Training and the Commissioner of Labor Statistics, to address: (1) the evaluation and improvement of the nationwide workforce and labor market information (WLMI) system and statewide systems that comprise the nationwide system; and (2) how the Department of Labor (Department) and the states will cooperate in the management of those systems. These systems include programs to produce employment-related statistics and state and local WLMI.

The Department anticipates the WIAC will accomplish its objectives by: (1) studying WLMI issues; (2) seeking and sharing information on innovative approaches, new technologies, and data to inform employment, skills training, and workforce and economic development decision making and policy; and (3) advising the Secretary on how the WLMI system can best support workforce development, planning, and program development. Additional information is available at www.dol.gov/agencies/eta/wioa/wiac/meetings.

Purpose: The WIAC is continually identifying and reviewing issues and aspects of the WLMI system and statewide systems that comprise the nationwide system and how the Department and the states will cooperate in the management of those systems. As part of this process, the Advisory Council meets to gather information and to engage in deliberative and planning activities to facilitate the development and provision of its recommendations to the Secretary in a timely manner.

Agenda: There are three agenda topics for this meeting. One, review and approve recommendations the WIAC members discussed at the previous meeting held September 9 and 10, 2024. Two, discuss topics for future consideration of the WIAC. Third, determine a workplan for developing the next set of WIAC recommendations. A detailed agenda will be available at www.dol.gov/agencies/eta/wioa/wiac/meetings shortly before the November 6, 2024, meeting commences.

The Advisory Council will open the floor for public comment at approximately 4 p.m. EST for approximately 10 minutes. However, that time may change at the WIAC chair's discretion.

Attending the Meetings: Members of the public who require reasonable accommodations to attend the virtual meeting may submit requests for accommodations via email to the email address indicated in the FOR FURTHER INFORMATION CONTACT section with the subject line “November 2024 WIAC Meeting Accommodations” by the date indicated in the DATES section. Please include a specific description of the accommodations requested and phone number or email address where you may be contacted if additional information is needed to meet your request.

Public Statements: Organizations or members of the public wishing to submit written statements may do so by transmitting them as email attachments in PDF format to the email address indicated in the FOR FURTHER INFORMATION CONTACT section with the subject line “November 2024 WIAC Meeting Public Statements” by the date indicated in the DATES section. Submitters may include their name and contact information in the body of the email for statements transmitted electronically. Relevant statements received before the date indicated in the DATES section will be included in the record of each meeting. No deletions, modifications, or redactions will be made to statements received, as they are public records. Please do not include personally identifiable information in your public statement.

Requests to Address the Advisory Council: Members of the public or representatives of organizations wishing to address the Advisory Council should forward their requests to the contact indicated in the FOR FURTHER INFORMATION CONTACT section, or contact the same by phone, by the date indicated in the DATES section. Oral presentations will be limited to 10 minutes, time permitting, and shall proceed at the discretion of the Advisory Council chair. Individuals with disabilities, or others who need special accommodations, should indicate their needs along with their request.

José Javier Rodríguez,
Assistant Secretary for Employment and Training, Labor.

[FR Doc. 2024-22101 Filed 9-25-24; 8:45 am]

BILLING CODE 4510-FN-P